NATIONAL LABOR RELATIONS BOARD

29 CFR Part 103

RIN 3142-AA22

Representation—Case Procedures: Election Bars; Proof of Majority Support in Construction Industry Collective-Bargaining Relationships

AGENCY: National Labor Relations Board.

ACTION: Notice of proposed rulemaking; extension of responsive comment period.

SUMMARY: The National Labor Relations Board (the Board) published a Notice of Proposed Rulemaking in the Federal Register on November 4, 2022, seeking comments from the public regarding its proposed rule concerning Representation—Case Procedures: Election Bars; Proof of Majority Support in Construction Industry Collective-Bargaining Relationships (“NPRM”). The deadline for initial comments was extended on December 1, 2022, to February 2, 2023, with responsive comments due on February 16, 2023. The date to submit responsive comments to the initial comments is being extended due to an administrative error that occurred within Regulations.gov that inadvertently allowed six comments to be filed on a closed NLRB rulemaking docket from 2018. These comments have been moved to the correct NPRM docket.

DATES: The responsive comment period for the proposed rule published November 4, 2022, at 87 FR 66890, extended December 1, 2022, at 87 FR 73705, is further extended. Responsive comments to initial comments must be received by the Board on or before March 1, 2023.

ADDRESSES:

Internet—Federal eRulemaking Portal. Electronic comments may be submitted through http://www.regulations.gov. Follow the instructions for submitting comments.

Delivery—Comments may be submitted by mail or hand delivery to: Roxanne L. Rothschild, Executive Secretary, National Labor Relations Board, 1015 Half Street SE, Washington, DC 20570-0001. Because of security precautions, the Board continues to experience delays in U.S. mail delivery. You should take this into consideration when preparing to meet the deadline for submitting comments. The Board encourages electronic filing. It is not necessary to send comments if they have been filed electronically with regulations.gov. If you send comments, the Board recommends that you confirm receipt of your delivered comments by contacting (202) 273-1940 (this is not a toll-free number). Individuals with hearing impairments may call 1-866-315-6572 (TTY/TDD).

FOR FURTHER INFORMATION CONTACT: Roxanne L. Rothschild, Executive Secretary, National Labor Relations Board, 1015 Half Street SE, Washington, DC 20570-0001, (202) 273-1940 (this is not a toll-free number), 1-866-315-6572 (TTY/TDD).

SUPPLEMENTARY INFORMATION: The Board sought comments from the public regarding its November 4, 2022, NPRM. Pursuant to an extension published on December 1, 2022, initial comments were due on February 2, 2023, and responsive comments were due on February 16, 2023. The Board is extending the responsive comment deadline due to an administrative error that occurred within Regulations.gov that inadvertently allowed six comments to be filed on a closed NLRB rulemaking docket from 2018. These comments have been moved to the correct NPRM docket. The new due date for submission of responsive comments is March 1, 2023.

Only comments submitted through http://www.regulations.gov, hand delivered, or mailed will be accepted; ex parte communications received by the Board will be made part of the rulemaking record and will be treated as comments only insofar as appropriate. Comments will be available for public inspection at http://www.regulations.gov and during normal business hours (8:30 a.m. to 5 p.m. EST) at the above address.

The Board will post, as soon as practicable, all comments received on http://www.regulations.gov without making any changes to the comments, including any personal information provided. The website http://www.regulations.gov is the Federal eRulemaking portal, and all comments posted there are available and accessible to the public. The Board requests that comments include full citations or internet links to any authority relied upon. The Board cautions commenters not to include personal information such as Social Security numbers, personal addresses, telephone numbers, and email addresses in their comments, as such submitted information will become viewable by the public via the http://www.regulations.gov website. It is the commenter's responsibility to safeguard his or her information. Comments submitted through http://www.regulations.gov will not include the commenter's email address unless the commenter chooses to include that information as part of his or her comment.

Dated: February 10, 2023.
Roxanne L. Rothschild,
Executive Secretary.

[FR Doc. 2023-03215 Filed 2-14-23; 8:45 am]

BILLING CODE 7545-01-P